DEPARTMENT OF AGRICULTURE

Animal and Plant Health Inspection Service

[Docket No. APHIS-2008-0130]

Notice of Request for Revision and Extension of Approval of an Information Collection; National Poultry Improvement Plan

AGENCY: Animal and Plant Health Inspection Service, USDA.

ACTION: Revision and extension of approval of an information collection; comment request.

SUMMARY: In accordance with the Paperwork Reduction Act of 1995, this notice announces the Animal and Plant Health Inspection Service's intention to request approval of a revision and extension of an information collection associated with regulations for the National Poultry Improvement Plan.

DATES: We will consider all comments that we receive on or before February 17, 2009.

ADDRESSES: You may submit comments by either of the following methods:

• Federal eRulemaking Portal: Go to http://www.regulations.gov/fdmspublic/component/main?main=DocketDetail&d=APHIS-2008-0130 to submit or view comments and to view supporting and related materials available electronically.

• Postal Mail/Commercial Delivery: Please send two copies of your comment to Docket No. APHIS-2008-0130, Regulatory Analysis and Development, PPD, APHIS, Station 3A-03.8, 4700 River Road Unit 118, Riverdale, MD 20737-1238. Please state that your comment refers to Docket No. APHIS-2008-0130.

Reading Room: You may read any comments that we receive on this docket in our reading room. The reading room is located in room 1141 of the USDA South Building, 14th Street and Independence Avenue SW., Washington, DC. Normal reading room hours are 8 a.m. to 4:30 p.m., Monday through Friday, except holidays. To be sure someone is there to help you, please call (202) 690-2817 before coming.

Other Information: Additional information about APHIS and its programs is available on the Internet at http://www.aphis.usda.gov.

FOR FURTHER INFORMATION CONTACT: For information on regulations associated with the National Poultry Improvement Plan, contact Mr. Andrew Rhorer, Senior Coordinator, National Poultry Improvement Plan, VS, APHIS, 1498 Klondike Road, Suite 101, Conyers, GA 30094; (770) 922-3496. For copies of more detailed information on the information collection, contact Mrs. Celeste Sickles, APHIS' Information Collection Coordinator, at (301) 851-2908.

SUPPLEMENTARY INFORMATION: Title: National Poultry Improvement Plan.

OMB Number: 0579-0007.

Type of Request: Revision and extension of approval of an information collection.

Abstract: The Animal and Plant Health Inspection Service (APHIS) of the United States Department of Agriculture is authorized to, among other things, administer the National Poultry Improvement Plan (NPIP), the primary purpose of which is to protect the health of the U.S. poultry population. NPIP is a voluntary Federal-State-industry cooperative program for the improvement of poultry flocks and products through disease control techniques. Participation in all Plan programs is voluntary, but flocks, hatcheries, and dealers of breeding poultry must first qualify as “U.S. Pullorum-Typhoid Clean” as a condition for participation in the other Plan programs. The NPIP regulations are contained in 9 CFR parts 56, 145, 146, and 147.

In administering the Plan, APHIS requires a number of information collection activities and forms, including VS Forms 1-23/1-23A, Appraisal and Indemnity Claim for Animals Destroyed or Materials Destroyed/Continuation Sheet; VS Form 9-3, Report of Sales of Hatching Eggs, Chicks, and Poults; VS Form 9-4, Summary of Breeding Flock, Table-Egg Layer Flocks, Meat-Type Chicken and Turkey Slaughter Plants Participation; VS Form 9-5, Report of Hatcheries, Dealers, and Independent Flocks, Table-Egg Producers, Meat-Type Chicken and Turkey Slaughter Plants Participating in the NPIP; VS Form 9-6, Report of Salmonella Isolations to NPIP Official State Agencies; VS Form 9-7, Investigation of Salmonella Isolations in Poultry; VS Form 9-8, Flock Inspection and Check Testing Report; VS Form 9-9, Hatchery Inspection Form; VS Form 10-3, Request for Salmonella Serotyping; banding of sentinel birds for identification prior to flock vaccination; memorandums of understanding; recordkeeping; and printing and mailing to States, upon request, of computerized printouts of interstate sales by hatchery operators who ship large numbers of small chick orders.

We are asking the Office of Management and Budget (OMB) to approve our use of these information collection activities for an additional 3 years.

This notice includes a description of the information collection requirements currently approved by OMB under numbers 0579-0007 (National Poultry Improvement Plan) and 0579-0305 (Low Pathogenic Avian Influenza; Voluntary Control Program and Payment of Indemnity). After OMB approves and combines the burden for both collections under a single collection (number 0579-0007), the Department will retire number 0579-0305.

The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond, through use, as appropriate, of automated, electronic, mechanical, and other collection technologies; e.g., permitting electronic submission of responses.

Estimate of burden: The public reporting burden for this collection of information is estimated to average 0.6159046 hours per response.

Respondents: Flock owners, breeders, hatchery operators, commercial table-egg layer producers, meat-type chicken slaughter plants, turkey slaughter plants, and State veterinary medical officers.

Estimated annual number of respondents: 12,222.

Estimated annual number of responses per respondent: 13.772541.

Estimated annual number of responses: 168,328.

Estimated total annual burden on respondents: 103,674 hours. (Due to averaging, the total annual burden hours may not equal the product of the annual number of responses multiplied by the reporting burden per response.)

All responses to this notice will be summarized and included in the request for OMB approval. All comments will also become a matter of public record.

Done in Washington, DC, this 15th day of December 2008.
Kevin Shea,
Acting Administrator, Animal and Plant Health Inspection Service.

[FR Doc. E8-30215 Filed 12-18-08; 8:45 am]

BILLING CODE 3410-34-P